DEPARTMENT OF HEALTH AND HUMAN SERVICES

Administration for Children and Families

Proposed Information Collection Activity; Objective Work Plan/On-Going Progress Report (Office of Management and Budget #0970-0452)

AGENCY: Administration for Native Americans, Administration for Children and Families, United States Department of Health and Human Services.

ACTION: Request for public comments.

SUMMARY: The Administration for Children and Families' (ACF) Administration for Native Americans (ANA) is requesting a three-year extension to the Ongoing Progress Report (OPR) and the Objective Work Plan (OWP) (Office of Management and Budget (OMB) #0970-0452, expiration September 930, 2023). There are no changes requested to the forms.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: There are no changes proposed to the OPR or OWP.

The OPR information collection is conducted in accordance with section 811 [42 U.S.C. 2992] of the Native American Programs Act and will allow ANA to report quantifiable results across all program areas. It also provides grantees with parameters for reporting their progress and helps ANA better monitor and determine the effectiveness of their projects. The information in the OPR is collected on a semi-annual basis to monitor the performance of grantees and better gauge grantee progress.

The OWP information collection is conducted in accordance with 42 U.S.C. of the Native American Programs Act of 1972, as amended. This collection is necessary to evaluate applications for financial assistance and determine the relative merits of the projects for which such assistance is requested, as set forth in section 806 [42 U.S.C. 2991-d 1](a)(1). The information in the OWP is collected at time of application to detail the project goal, objectives, activities, and outputs.

Respondents:

Federally and state recognized tribes, Native Pacific Islanders, Tribal colleges and universities, Native non-profits, and consortia.

Annual Burden Estimates
Instrument | Total number of respondents | Total number of responses per respondent | Average burden hours per response | Total burden hours | Annual burden hours
Objective Work Plan | 300 | 1 | 3 | 900 | 300
On-Going Progress Report | 200 | 2 | 1 | 400 | 133

Estimated Total Annual Burden Hours: 433.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 806 [42 U.S.C. 2991d-1](a)(1) and section 811 [42 U.S.C. 2992].

Mary B. Jones,
ACF/OPRE Certifying Officer.

[FR Doc. 2023-10733 Filed 5-18-23; 8:45 am]

BILLING CODE 4184-24-P